DEPARTMENT OF ENERGY

Federal Energy Regulatory Commission

Combined Notice of Filings

Take notice that the Commission has received the following Natural Gas Pipeline Rate and Refund Report filings:

Filings Instituting Proceedings

Docket Number: PR17-42-000.

Applicants: Columbia Gas of Ohio, Inc.

Description: Tariff filing per 284.123(b),(e)/: COH SOC Rate effective 5-1-2017; Filing Type: 980.

Filed Date: 5/8/17.

Accession Number: 201705085139.

Comments/Protests Due: 5 p.m. ET 5/30/17.

Docket Numbers: RP17-739-000.

Applicants: Iroquois Gas Transmission System, L.P.

Description: Iroquois Gas Transmission System, L.P. submits tariff filing per 154.204: 05/08/17 Negotiated Rates—Consolidated Edison Energy Inc. (HUB) 2275-89 to be effective 5/10/2017.

Filed Date: 05/08/2017.

Accession Number: 20170508-5084.

Comment Date: 5:00 p.m. Eastern Time on Monday, May 22, 2017.

Docket Numbers: RP17-740-000.

Applicants: ARM Energy Management,Salt Creek Midstream, LLC.

Description: Joint Petition of ARM Energy Management, LLC, et al. for Temporary Waiver of Commission Capacity Release Regulations and Related Tariff Provisions, and Request for Expedited Action.

Filed Date: 05/08/2017.

Accession Number: 20170508-5206.

Comment Date: 5:00 p.m. Eastern Time on Monday, May 15, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2017.
Kimberly D. Bose,
Secretary.

[FR Doc. 2017-09959 Filed 5-16-17; 8:45 am]

BILLING CODE 6717-01-P